DEPARTMENT OF DEFENSE

Department of the Army, Corps of Engineers

Intent To Prepare an Environmental Impact Statement for the Lake Okeechobee System Operating Manual (LOSOM), Glades, Martin, Palm Beach, Hendry, Lee, St. Lucie and Okeechobee Counties, Florida. Effects May Extend to Broward, Miami-Dade, Monroe, and Collier Counties, Florida

AGENCY: Department of the Army, U.S. Army Corps of Engineers, DOD.

ACTION: Notice of intent.

SUMMARY: Pursuant to the requirements of the National Environmental Policy Act (NEPA) of 1969, as implemented by the Council on Environmental Quality regulations, the U.S. Army Corps of Engineers, Jacksonville District (Corps) is beginning preparation of an Environmental Impact Statement (EIS) for the Lake Okeechobee System Operating Manual (LOSOM).

DATES: The draft EIS is scheduled to be released for a minimum 45-day public review in conjunction with the draft operation plan in early 2022. The Final EIS is anticipated in August 2022.

ADDRESSES: U.S. Army Corps of Engineers, Planning and Policy Division, Environmental Branch, 701 San Marco Blvd., Jacksonville, FL 32207.

FOR FURTHER INFORMATION CONTACT: Ms. Jessica Menichino at (239) 221-2024; email at Jessica.M.Menichino@usace.army.mil or through the mail at the above address. Additional information is also available at https://www.saj.usace.army.mil/LOSOM/.

SUPPLEMENTARY INFORMATION: a. Purpose and need: The purpose of the LOSOM is to develop a new regulation schedule for Lake Okeechobee that accounts for the completion of the Herbert Hoover Dike (HHD) rehabilitation and considers completed or near complete Comprehensive Everglades Restoration Plan (CERP) projects, while balancing the congressionally authorized purposes of the Central and Southern Florida (C&SF) Project to include flood control, water supply for agricultural, municipal, and industrial uses, regional groundwater control and prevention of saltwater intrusion, enhancement of fish and wildlife, and recreation. The LOSOM aims to develop a new regulation schedule that will improve Lake Okeechobee ecological integrity and the quantity, quality, timing, and distribution of water moving in the Northern Estuaries, Water Conservation Areas (WCAs), and Everglades National Park (ENP), while balancing the congressionally-authorized project purposes. The study will not propose water quality improvement features and will not propose new infrastructure beyond evaluation of already authorized projects.

b. Preliminary alternatives & proposed action: Since the development of structural works around Lake Okeechobee, the Lake Okeechobee water levels and the distribution, timing, and, magnitude of releases out of the lake have been determined by the active regulation schedule. The last Lake Okeechobee regulation schedule review, called the 2008 Lake Okeechobee Regulation Schedule (LORS 2008), was completed in 2008 to improve Lake and Northern Estuary ecology and to reduce flood risk during rehabilitation of HHD. The new regulation schedule, LOSOM, is being developed to incorporate HHD rehabilitation and additional relevant South Florida Ecosystem Restoration projects since the LORS 2008 schedule update. Additionally, focused objectives, based on updated conditions, new science, and lessons learned since LORS 2008 was approved, have been developed to better meet the congressionally authorized purposes, which will incorporate critical flexibility into Lake Okeechobee operations. The balanced array of alternatives will include different methodologies to balance the congressionally-authorized project purposes and the stated goals and objectives of LOSOM to consider incorporating the following concepts: (1) Increasing flow south with an emphasis on dry season flows, (2) Reducing flows to the St. Lucie Estuary through S-308, (3) Reducing high and low flow events to the Caloosahatchee River and Estuary, (4) Addressing algal bloom risk, (5) Improving water supply, and (6) Managing lake stages for enhancing ecology. After the evaluation of the balanced array of alternatives, a Tentatively Selected Plan will be chosen and optimized during a third round of modeling.

c. Brief summary of expected impacts: The scope of LOSOM will be limited to operational criteria for structures that manage releases from Lake Okeechobee, including releases to the east towards the St. Lucie Estuary via S-308 and S-80, releases towards the west towards the Caloosahatchee Estuary via S-77, S-78, and S-79, and south via S-351, S-352, S-354, and S-271. At these structures, LOSOM will define the upper and lower limits of flow magnitudes, the duration and timing of flows, and lake levels or ranges of levels at different times of year (e.g., wet and dry seasons). In addition, it will include the types of information used to help inform water management release decisions that include, but are not limited to, the following: Short and long term meteorological patterns, environmental conditions in Lake Okeechobee, Northern Estuaries, and WCAs, fish and wildlife species, and water supply needs and well fields. The areas of direct impact include Lake Okeechobee, Caloosahatchee River and Estuary, St. Lucie Estuary, the Everglades Agricultural Area (EAA), and WCAs. Areas of indirect impact include the Lower East Coast Service Area (LECSA), ENP, and other areas south of Lake Okeechobee that may be impacted by changing freshwater releases from Lake Okeechobee. Expected impacts may include the following: Changing salinity levels in the Northern Estuaries (either positively or negatively depending on flows), changing water levels in the EAA and WCAs, potential increases or decreases in algal bloom risk in Lake Okeechobee and the Northern Estuaries, increases or decreases in water supply and available water for navigation and recreation, and potential impacts to seagrasses, oysters, and endangered and threatened species. Potential indirect impacts include increasing or decreasing freshwater flow amounts being sent to ENP, LECSA, and other areas south of Lake Okeechobee. Other potential impacts may be determined as the in-depth analysis of alternatives is conducted under NEPA.

d. Anticipated permits/authorizations: All alternative plans will be reviewed under provisions of appropriate laws and regulations, including the Endangered Species Act, Magnuson-Stevens Fisheries Conservation and Management Act, Fish and Wildlife Coordination Act, Coastal Zone Management Act, and National Historic Preservation Act. The final array of alternative plans will consider operations that balance multiple project objectives and evaluate their effects on the human environment in the NEPA document. As an operational plan, it is not expected that permits under the Clean Water Act or Clean Air Act will be required.

e. Scoping process and meetings: The planning process for LOSOM requires extensive coordination with the public and federal, tribal, state, and local resource management and regulatory agencies. An interagency project team was formed and is meeting regularly throughout the study, to provide opportunities for federal, tribal, state, and local agencies to comment on planning assumptions, evaluation tools and methods, and alternative plans. Initial public and agency comments received in response to a NEPA scoping letter dated January 29, 2019, were supportive of the project. Comments received from the NEPA scoping letter focused on the planning and NEPA process, Lake Okeechobee water levels and release volumes, operational considerations to be included in LOSOM, and links to other CERP projects and planning constraints. Concerns centered on potential impacts to water supply, flood protection, public health and safety, and water quality, including harmful algal blooms. Potential impacts to ecosystems, fish, and wildlife resources, and known and unknown cultural resources were also of concern. Scoping comments were accepted through April 21, 2019.

f. Request for alternatives, information, and analyses: The LOSOM team is currently developing a balanced array of alternatives. These alternatives are expected to be modeled in early to mid-May 2021. The alternatives were presented to the Project Delivery Team (PDT) during the May 7, 2021 PDT meeting, where members of the public were invited to attend. More information on meeting times, dates, and topics can be found at https://www.saj.usace.army.mil/LOSOM/.

Jason E. Kelly,
Colonel(P), U.S. Army, Commanding.

[FR Doc. 2021-10761 Filed 5-20-21; 8:45 am]

BILLING CODE 3720-58-P